Proclamation 10943 of May 24, 2025

National Physical Fitness and Sports Month, 2025

By the President of the United States of America

A Proclamation

During National Physical Fitness and Sports Month, we celebrate the foundational role that physical fitness and sports play in helping us to live longer, healthier, and more fulfilling lives. Through sports, fitness routines, and staying active, we have the opportunity to improve our health, strengthen our communities, and build a brighter future for our country.

For far too long, our Nation has failed to prioritize the health and well-being of the American people. This negligence has come at a devastating cost. As a result, the United States lags behind other developed countries in life expectancy, chronic disease prevention, and overall public health outcomes.

This era of indifference ended when I took office. I was proud to appoint Robert F. Kennedy, Jr. as the Secretary of Health and Human Services to urgently confront and stop this crisis. I also established the Make America Healthy Again Commission, tasked with ensuring Americans have access to nutritious food choices, while addressing the root causes of childhood chronic diseases. With public health as a cornerstone of my Administration, we are forging a future where the American people are healthier and stronger than ever before.

Engagement and active participation in sports, especially among our youth, is vital to fostering a culture of health and physical fitness. My Administration is committed to ensuring that our sports and competitive spaces remain safe, free, and accessible for future generations of Americans. In my first term, I signed an Executive Order to nationally expand children's participation in sports, promoting physical activity, fitness, and the academic and social benefits of healthy lifestyles. I was also proud to recently sign an Executive Order to keep biological men out of women's sports, ensuring our female athletes are free to compete and excel on a level and fair playing field.

Together, we are building a healthier and more flourishing Nation, one that champions physical fitness and well-being, empowering every citizen to reach their full potential and excel in all aspects of life.

NOW, THEREFORE, I, DONALD J. TRUMP, President of the United States of America, by virtue of the authority vested in me by the Constitution and the laws of the United States, do hereby proclaim May 2025 as National Physical Fitness and Sports Month. I call upon the people of the United States to incorporate physical fitness and sports participation into their everyday lives.

IN WITNESS WHEREOF, I have hereunto set my hand this twenty-fourth day of May, in the year of our Lord two thousand twenty-five, and of the Independence of the United States of America the two hundred and forty-ninth.

[FR Doc. 2025-09873

Filed 5-28-25; 11:15 am]

Billing code 3395-F4-P